DEPARTMENT OF STATE

[Public Notice 3758]

Determination: Assistance to Peru: Determination Pursuant to Section 530 of the Foreign Operations, Export Financing, and Related Programs Appropriations Act, 2001

Pursuant to section 530 of the Foreign Operations, Export Financing, and Related Programs Appropriations Act, 2001, I hereby determine that the Government of Peru has made substantial progress in creating the conditions for free and fair elections, respecting human rights, rule of law, independence and constitutional role of judiciary and national congress, freedom of expression and independent media. This determination shall be published in the Federal Register.

Dated: August 7, 2001.
Colin L. Powell,
Secretary of State.

[FR Doc. 01-21141 Filed 8-21-01; 8:45 am]

BILLING CODE 4710-10-M